DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and 30 CFR part 44 govern the application, processing, and disposition of petitions for modification. This notice is a summary of petitions for modification submitted to the Mine Safety and Health Administration (MSHA) by the parties listed below to modify the application of existing mandatory safety standards codified in Title 30 of the Code of Federal Regulations.

DATES: All comments on the petitions must be received by the Office of Standards, Regulations and Variances on or before December 22, 2014.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations and Variances, 1100 Wilson Boulevard, Room 2350, Arlington, Virginia 22209-3939, Attention: Sheila McConnell, Acting Director, Office of Standards, Regulations and Variances. Persons delivering documents are required to check in at the receptionist's desk on the 21st floor. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Numbers: M-2014-035-C and M-2014-036-C.

Petitioner: Sunrise Coal LLC, 12661 Agricare Road, Oaktown, Indiana 47561.

Mines: Oaktown Fuels Mine No. 1, MSHA I.D. No. 12-02394, and Oaktown Fuels Mine No. 2, MSHA I.D. No. 12-02418, both located in Knox County, Indiana.

Regulation Affected: 30 CFR 75.1101-1(b) (Deluge-type water spray systems).

Modification Request: The petitioner requests a modification of the existing standard to permit weekly examinations and functional testing of the deluge-type water fire suppression systems to be conducted in lieu of providing blow-off dust covers. The petitioner proposes to conduct weekly examinations and functional tests of the deluge system to provide an improvement in safety and to ensure that the spray nozzles do not become plugged. The petitioner states that replacing the dust caps creates an unnecessary hazard by exposing miners to the risk of a slip/fall type accident. The petitioner further states that:

(1) A person trained in the testing procedures specific to the deluge-type water spray system utilized at each belt drive will, once every seven 7 days:

(a) Conduct a visual examination of each of the deluge-type water spray fire suppression systems.

(b) Conduct a functional test of the deluge-type water spray fire suppression systems by actuating the system and observing its performance.

(c) Record the results of the examination and functional test in a book maintained on the surface, made available to authorized representatives of the Secretary and retained at the mine for one year.

(2) Any malfunction or clogged nozzle detected as a result of the weekly examination or functional test will be corrected immediately.

(3) The procedure used to perform the functional test will be posted at or near each belt drive that utilizes a deluge-type water spray fire suppression system.

The petitioner asserts that the proposed alternative method will at all times guarantee no less than the same measure or protection afforded by the existing standard.

Docket Number: M-2014-019-M.

Petitioner: J.S. Redpath Corporation, 1410 Greg Street Suite 404, Sparks, Nevada 89431.

Mine: Sumitomo Metal Mining Pogo LLC, Pogo Mine, MSHA I.D. No. 50-01642, 49 Mile Shaw Creek Road, Delta Junction, Alaska 99737, located in Southeast Fairbanks County, Alaska.

Regulation Affected: 30 CFR 57.14207 (Parking procedures for unattended equipment).

Modification Request: The petitioner requests a modification of the existing standard to eliminate the use of park brakes on light vehicle fleets during the coldest months of the year for only the surface areas of the Pogo Mine Site. The petitioner states that:

(1) The coldest of months of the year in Southeast Fairbanks County, Alaska are between October 15th and April 1st.

(2) The fleet vehicles are currently Ford F series 4X4 pickup trucks and one 4X4 Ford passenger van. All of the vehicles are equipped with automatic transmissions.

(3) This modification request is only for these types of vehicles with external cable and park brake assemblies.

(4) The alternate method of securing these light vehicles will be the use of a parking ditch, or a parking rack. When the vehicles are parked on the surface during the cold months the two front tires or two back tires of the vehicle will be put into a parking ditch 5 to 6 inches deep, or driven into the parking rack. The parking racks are constructed of 4-inch steel angle iron. Along with the parking ditch or rack the vehicles will be secured with chock blocks on both sides of an opposite axle tire.

(5) The vehicles are used both underground and on the surface. When the vehicles are used in the wet underground environment and then driven to the surface, the extreme cold temperatures immediately cause the park brake components to freeze. Temperatures at the mine often exceed -50 degrees Fahrenheit for extended periods of time. Setting the park brakes will damage the brakes and will often lock the tires in place.

(6) The vehicles are driven in and out of the mine many times in a 24-hour period. They are used to haul men, equipment, tools and supplies. The vehicles are an extremely important part of the mine's day to day operations. The vehicles are maintained in a safe and reliable condition and are inspected prior to each shift use.

(7) The parking racks will be constructed in approximate 20 foot width. The bottom side of the parking rack will have some form of metal teeth to create friction between the rack and ground to keep it from sliding on a frozen surface.

The petitioner asserts that the proposed alternative method will at all times guarantee no less than the same measure of protection afforded by the existing standard.

Dated: November 14, 2014.
Sheila McConnell,
Acting Director, Office of Standards, Regulations and Variances.

[FR Doc. 2014-27514 Filed 11-19-14; 8:45 am]

BILLING CODE 4510-43-P